DEPARTMENT OF STATE

[Public Notice 7964]

60-Day Notice of Proposed Information Collection: Humphrey Evaluation Survey

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Humphrey Evaluation Survey.

• OMB Control Number: None (OMB Control Number 1405-xxxx).

• Type of Request: New Collection.

• Originating Office: Bureau of Educational and Cultural Affairs, Office of Policy and Evaluation, Evaluation Division (ECA/P/V).

• Form Number: SV2012-0003.

• Respondents: Foreign Humphrey participants between 1979 and 2009.

• Estimated Number of Respondents: 1,200 annually.

• Estimated Number of Responses: 1,200 annually.

• Average Hours per Response: 30 minutes.

• Total Estimated Burden: 600 hours annually.

• Frequency: One time.

• Obligation to Respond: Voluntary.

DATES: The Department will accept comments from the public up to 60 days from July 26, 2012.

ADDRESSES:

You may submit comments by any of the following methods:

• Web: Persons with access to the Internet may view and comment on this notice by going to the Federal regulations Web site at www.regulations.gov. You can search for the document by: Selecting “Notice” under Document Type, entering the Public Notice number as the “Keyword or ID”, checking the “Open for Comment” box, and then click “Search”. If necessary, use the “Narrow by Agency” option on the Results page. Email: HaleMJ2@state.gov.

• Email: HaleMJ2@state.gov.

• Mail (paper, disk, or CD-ROM submissions): ECA/P/V, SA-5, C2 Floor, Department of State, Washington, DC 20522-0505.

• Fax: 202-632-6320.

• Hand Delivery or Courier: ECA/P/V, SA-5, C2 Floor, Department of State, 2200 C Street NW., Washington, DC 20037.

You must include the DS form number (if applicable), information collection title, and OMB control number in any correspondence.

FOR FURTHER INFORMATION CONTACT: Direct requests for additional information regarding the collection listed in this notice, including requests for copies of the proposed information collection and supporting documents, to Michelle Hale, ECA/P/V, SA-5, C2 Floor, Department of State, Washington, DC 20522-0582, who may be reached on 202-632-6312 or at HaleMJ2@state.gov.

SUPPLEMENTARY INFORMATION:

We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

This request for a new information collection will allow ECA/P/V to conduct a descriptive survey of the exchange participants who went on the Hubert H. Humphrey Fellowship Program between 1979 and 2009. Collecting this data will help ECA/P/V examine what Fellows have been doing post-program, and their roles in critical areas of change at work, and in their fields of study, and how the program affected their work. Data collections efforts will be conducted via electronic survey.

Methodology

All data will be collected electronically via SurveyGizmo, an on-line surveying tool.

Dated: July 7, 2012.
Matt Lussenhop,
Director of the Office of Policy and Evaluation, Bureau of Educational and Cultural Affairs, Department of State.

[FR Doc. 2012-18279 Filed 7-25-12; 8:45 am]

BILLING CODE 4710-05-P